SECURITIES AND EXCHANGE COMMISSION

[File No. 500-1]

Order of Suspension of Trading in the Matter of CoreCare Systems, Inc., Forticell Bioscience, Inc., Michelex Corporation, and Rx for Africa, Inc.

May 8, 2013.

It appears to the Securities and Exchange Commission that there is a lack of current and accurate information concerning the securities of CoreCare Systems, Inc. because it has not filed any periodic reports since the period ended June 30, 2005.

It appears to the Securities and Exchange Commission that there is a lack of current and accurate information concerning the securities of Forticell Bioscience, Inc. because it has not filed any periodic reports since the period ended September 30, 2008.

It appears to the Securities and Exchange Commission that there is a lack of current and accurate information concerning the securities of Michelex Corporation because it has not filed any periodic reports since the period ended September 30, 2006.

It appears to the Securities and Exchange Commission that there is a lack of current and accurate information concerning the securities of Rx for Africa, Inc. because it has not filed any periodic reports since the period ended March 31, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 8, 2013, through 11:59 p.m. EDT on May 21, 2013.

By the Commission.
Jill M. Peterson,
Assistant Secretary.

[FR Doc. 2013-11238 Filed 5-8-13; 4:15 pm]

BILLING CODE 8011-01-P